FEDERAL ELECTION COMMISSION

[Notice 2009-14]

Web Site and Internet Communications Improvement Initiative; Correction

AGENCY: Federal Election Commission.

ACTION: Notice of public hearing and request for public comments; correction.

SUMMARY: The Federal Election Commission published in the Federal Register on July 1, 2009, a document concerning the improvement of public information disclosure via the Commission's Web site and other Internet communications. The Commission inadvertently entered the signature date on the document as March 25, 2009. This document removes that signature date and inserts the correct date, which is June 25, 2009.

DATES: Effective Date: This correction is effective on July 14, 2009.

FOR FURTHER INFORMATION CONTACT: Mr. Robert M. Knop, Assistant General Counsel, or Ms. Cheryl A.F. Hemsley, Attorney, 999 E Street, NW., Washington, DC 20463, (202) 694-1650 or (800) 424-9530.

SUPPLEMENTARY INFORMATION: The Federal Election Commission published a document in the Federal Register on July 1, 2009 (74 FR 31430), which inadvertently included an incorrect issuance date. This correction removes that date and inserts the correct date of issuance by the Commission.

In Notice 2009-10 published on July 1, 2009 (74 FR 31430), make the following correction. On page 31441, in the first column, on the top line, replace the date “March 25, 2009,” which appears after the word “Dated,” with “June 25, 2009.”

On behalf of the Commission.
Dated: July 7, 2009.
Steven T. Walther,
Chairman, Federal Election Commission.

[FR Doc. E9-16420 Filed 7-13-09; 8:45 am]

BILLING CODE 6715-01-P